DEPARTMENT OF COMMERCE

International Trade Administration

[A-570-967, C-570-968]

Aluminum Extrusions From the People's Republic of China: Notice of Court Decisions Not in Harmony With Final Scope Ruling and Notice of Amended Final Scope Rulings Pursuant to Court Decisions

AGENCY: Enforcement and Compliance, International Trade Administration, Department of Commerce.

SUMMARY: On December 16, 2022, the U.S. Court of International Trade (CIT) issued its final judgments in Worldwide Door Components, Inc. v. United States, Slip Op. 22-143, Court No. 19-00012 (Worldwide IV), and Columbia Aluminum Products, LLC v. United States, Slip Op. 22-144, Court No. 19-00013 (Columbia IV), sustaining the U.S. Department of Commerce's (Commerce) third remand redeterminations pertaining to the scope ruling for the antidumping (AD) and countervailing duty (CVD) orders on aluminum extrusions from the People's Republic of China (China). In the redeterminations, Commerce found that certain door thresholds imported by Worldwide Door Components, Inc. (Worldwide) and Columbia Aluminum Products, Inc. (Columbia) are outside the scope of the orders, pursuant to the CIT's remand orders in Worldwide Door Components, Inc. v. United States, Court No. 19-00012, Slip Op. 22-91 (CIT August 10, 2022) (Worldwide III) and Columbia Aluminum Products, Inc. v. United States, Court No. 19-00013, Slip Op. 22-92 (CIT August 10, 2022) (Columbia III). Commerce is notifying the public that the CIT's final judgments are not in harmony with Commerce's final scope ruling, and that Commerce is amending the scope ruling to find that the Worldwide and Columbia door thresholds are outside the scope of the orders.

DATES: Applicable December 26, 2022.

FOR FURTHER INFORMATION CONTACT: Michael J. Heaney, AD/CVD Operations, Office VI, Enforcement and Compliance, International Trade Administration, U.S. Department of Commerce, 1401 Constitution Avenue NW, Washington, DC 20230; telephone: (202) 482-4475.

SUPPLEMENTARY INFORMATION:

Background

On December 19, 2018, Commerce issued its Final Scope Rulings ¹ that certain door thresholds imported by Worldwide and Columbia fall within the scope of the antidumping and countervailing duty orders on aluminum extrusions from China.² Worldwide and Columbia appealed Commerce's Final Scope Ruling. On December 23, 2020, pursuant to the CIT's first remand orders in Worldwide I and Columbia I,³ Commerce issued its First Final Remand Redeterminations, in which Commerce continued to find that Worldwide's and Columbia's door thresholds were subassemblies included in the scope of the Orders and, therefore, failed to satisfy the requirements for the finished merchandise exclusion.⁴

¹ See Memorandum, “Antidumping and Countervailing Duty Order on Aluminum Extrusions from the People's Republic of China: Final Scope Rulings on Worldwide Door Components Inc., MJB Wood Group, Inc. and Columbia Door Thresholds,” dated December 19, 2018 (Final Scope Rulings).

² See Aluminum Extrusions from the People's Republic of China: Antidumping Duty Order, 76 FR 30650 (May 26, 2011); and Aluminum Extrusions from the People's Republic of China: Countervailing Duty Order, 76 FR 30653 (May 26, 2011) (collectively, the Orders).

³ See Worldwide Door Components, Inc. v. United States, 466 F. Supp. 3d 1370 (CIT 2020) (Worldwide I); and Columbia Aluminum Products, LLC v. United States, 470 F. Supp. 3d 1353 (CIT 2020) (Columbia I).

⁴ See Final Results of Redetermination Pursuant to Court Remand, Aluminum Extrusions from the People's Republic of China, Worldwide Door Components, Inc. v. United States, Court No. 19-00012, Slip Op. 20-128 (CIT August 27, 2020), dated December 23, 2020, available at https://access.trade.gov/resources/remands/20-128.pdf; Final Results of Redetermination Pursuant to Court Remand, Aluminum Extrusions from the People's Republic of China, Columbia Aluminum Products, LLC v. United States, Court No. 19-00013, Slip Op. 20-129 (CIT August 27, 2020), dated December 23, 2020, available at https://access.trade.gov/resources/remands/20-129.pdf (collectively, First Final Remand Redeterminations).

In Worldwide II and Columbia II, the CIT determined that Commerce impermissibly based its analysis in the First Final Remand Redeterminations on inferences that were contradicted or unsupported by other information on the record.⁵ The CIT directed Commerce to reconsider whether Worldwide and Columbia door thresholds required cutting or machining prior to incorporation into another product, and to determine whether Worldwide's and Columbia's door thresholds qualified for the finished merchandise exclusion.⁶ On December 13, 2021, Commerce issued its Second Final Remand Redeterminations, in which Commerce determined that Worldwide's and Columbia's door thresholds were excluded from the Orders as finished merchandise.⁷

⁵ See Worldwide Door Components, Inc. v. United States, 537 F. Supp. 3d 1403, 1404-05, 1408-09 (CIT 2021) (Worldwide II); and Columbia Aluminum Products, LLC v. United States, 536 F. Supp. 3d 1346 (CIT 2021) (Columbia II).

⁶ See Worldwide II, 537 F. Supp. 3d at 1404-05, 1414; and Columbia II, 536 F. Supp. 3d at 1354.

⁷ See Final Results of Redetermination Pursuant to Court Remand, Worldwide Door Components, Inc. v. United States, Court No. 19-00012, Slip Op. 21-115 (CIT September 14, 2021), dated December 13, 2021, available at https://access.trade.gov/resources/remands/21-115.pdf; Final Results of Redetermination Pursuant to Court Remand, Columbia Aluminum Products, LLC. v. United States, Court No. 19-00013, Slip Op. 21-116 (CIT September 14, 2021), dated December 13, 2021, available at https://access.trade.gov/resources/remands/21-116.pdf (collectively, Second Final Remand Redeterminations).

In Worldwide III and Columbia III, the CIT held that Commerce's Second Final Remand Redeterminations misconstrued aspects of the CIT's decision in Worldwide II and Columbia II and were not submitted in a form the CIT could sustain upon judicial review.⁸ The CIT directed Commerce to issue a new determination, in a form that would go into effect if sustained upon judicial review, determining whether the extruded aluminum components of Worldwide's and Columbia's door thresholds are within the scope of the Orders.⁹

⁸ See Worldwide III, 589 F. Supp. 3d 1185, 1192-95 (CIT 2022); and Columbia III, 587 F. Supp. 3d 1375, 1382-85 (CIT 2022).

⁹ See Worldwide III, 589 F. Supp. 3d at 1195; and Columbia III, 587 F. Supp. 3d at 1385.

In the Third Final Remand Redeterminations, Commerce continued to find, in accordance with the CIT's holdings, that Worldwide's and Columbia's door thresholds are outside the scope of the Orders based on the finished merchandise exclusion; Commerce also provided further explanation for the basis of that finding and clarified that Commerce did not intend to issue any other scope ruling or other agency determination subsequent to the CIT's order.¹⁰ The CIT subsequently sustained Commerce's remand redeterminations in Worldwide III and Columbia III.¹¹

¹⁰ See Final Results of Redetermination Pursuant to Court Remand, Worldwide Door Components, Inc. v. United States, Court No. 19-00012, Slip Op. 22-91 (CIT August 10, 2022), dated September 8, 2022, available at https://access.trade.gov/resources/remands//22-91.pdf; and Final Results of Redetermination Pursuant to Court Remand, Columbia Aluminum Products, LLC. v. United States, Court No. 19-00013, Slip Op. 22-92 (CIT August 10, 2022), dated September 8, 2022, available at https://access.trade.gov/resources/remands/22-92.pdf (collectively, Third Final Remand Redeterminations).

¹¹ See Worldwide IV, Slip Op. 22-143 at 6; and Columbia IV, Slip Op. 22-144 at 6.

¹² See Timken Co. v. United States, 893 F.2d 337 (Fed. Cir. 1990) (Timken).

¹³ See Diamond Sawblades Manufacturers Coalition v. United States, 626 F.3d 1374 (Fed. Cir. 2010) (Diamond Sawblades).

Timken Notice

In its decision in Timken,¹² as clarified by Diamond Sawblades,¹³ the U.S. Court of Appeals for the Federal Circuit held that, pursuant to sections 516A(c) and (e) of the Tariff Act of 1930, as amended (the Act), Commerce must publish a notice of court decision that is not “in harmony” with a Commerce determination and must suspend liquidation of entries pending a “conclusive” court decision. The CIT's December 16, 2022 judgements constitute final decisions of the CIT that are not in harmony with Commerce's Final Scope Ruling. Thus, this notice is published in fulfillment of the publication requirements of Timken.

Amended Final Scope Ruling

In accordance with the CIT's December 16, 2022, final judgments, Commerce is amending its Final Scope Ruling and determines that the scope of the Orders does not cover Worldwide's and Columbia's door thresholds addressed in the Final Scope Ruling.

Liquidation of Suspended Entries

Commerce will instruct U.S. Customs and Border Protection (CBP) that, pending any appeals, the cash deposit rate will be zero percent for entries of Worldwide's and Columbia's door thresholds produced in China. In accordance with the CIT's order sustaining Commerce's third final remand redetermination, Commerce intends to, with the publication of this notice, issue instructions to CBP to lift suspension of liquidation of such entries, and to liquidate entries of the door thresholds without regard to antidumping duties, with consideration for any potential appeal of the CIT's final judgement.

Notification to Interested Parties

This notice is issued and published in accordance with sections 516A(c) and (e), and 777(i)(1) of the Act.

Dated: December 23, 2022.
Lisa W. Wang,
Assistant Secretary for Enforcement and Compliance.

[FR Doc. 2022-28400 Filed 12-28-22; 8:45 am]

BILLING CODE 3510-DS-P